UNITED STATES SENTENCING COMMISSION

Sentencing Guidelines for United States Courts

AGENCY: United States Sentencing Commission.

ACTION: Notice of public hearing.

SUMMARY: The Commission has scheduled a public hearing on its proposed amendments for the amendment cycle ending May 1, 2003. Witnesses will be invited to testify by the Commission on issues specified by the Commission prior to the hearing. Tentative topics include implementation of the Sarbanes-Oxley Act of 2002, Pub. L. 107-204, and changes to § 2A1.4 (Involuntary Manslaughter). Further information regarding the public hearing will be provided by the Commission on its Web site at http://www.ussc.gov.

DATES: The Commission has scheduled a public hearing for March 25, 2003, at 3:15 p.m., at the Thurgood Marshall Federal Judiciary Building, One Columbus Circle, NE., Washington, DC 20002-8002.

FOR FURTHER INFORMATION CONTACT: Michael Courlander, Public Affairs Officer, Telephone: (202) 502-4500.

SUPPLEMENTARY INFORMATION: The United States Sentencing Commission is an independent agency in the judicial branch of the United States Government. The Commission promulgates sentencing guidelines and policy statements for federal sentencing courts pursuant to 28 U.S.C. 994(a). The Commission also periodically reviews and revises previously promulgated guidelines pursuant to 28 U.S.C. 994(o) and submits guideline amendments to the Congress not later than the first day of May each year pursuant to 28 U.S.C. 994(p). Additional information pertaining to the proposed amendments for the amendment cycle ending May 1, 2003, may be accessed through the Commission's Web site at http://www.ussc.gov.

Authority: 28 U.S.C. 994(x); USSC Rules of Practice and Procedure 3.4, 4.4, 4.5.

Diana E. Murphy,
Chair.

[FR Doc. 03-5430 Filed 3-6-03; 8:45 am]

BILLING CODE 2211-01-P